FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 2724NF.

Name: Air 7 Seas Transport Logistics, Inc.

Address: 1815 Houret Court, Milpitas, CA 95035-6823.

Date Revoked: April 23, 2003.

Reason: Failed to maintain valid bonds.

License Number: 7399N.

Name: Air Van Lines International Inc.

Address: 1230 116th Avenue, NE., Bellevue, WA 98004.

Date Revoked: April 7, 2003.

Reason: Surrendered license voluntarily.

License Number: 4607F.

Name: Jolaco Maritime Services, Inc.

Address: 3620 Willowbend, Suite 1120, Houston, TX 77054.

Date Revoked: April 21, 2003.

Reason: Failed to maintain a valid bond.

License Number: 16974N.

Name: Sea-Logix, Inc.

Address: Metro Office Park, Compaq Bldg-400, San Juan, Puerto Rico 00936.

Date Revoked: February 21, 2003.

Reason: Surrendered license voluntarily.

Sandra L. Kusumoto,
Director, Bureau of Consumer Complaints and Licensing.

[FR Doc. 03-12033 Filed 5-13-03; 8:45 am]

BILLING CODE 6730-01-P